ENVIRONMENTAL PROTECTION AGENCY

[FRL-13012-01-R3]

Clean Air Act Operating Permit Program; Order on Petitions for Objection to State Operating Permit for U.S. Steel Mon Valley Works, Irvin Plant

AGENCY: Environmental Protection Agency (EPA).

ACTION: Notice of final order on petition.

SUMMARY: The Environmental Protection Agency (EPA) Administrator signed an order dated September 16, 2025, granting in part and denying in part two petitions: one dated November 15, 2024 from United States Steel Corporation; and one dated November 15, 2024, from the Environmental Integrity Project, PennFuture, and Clean Air Council. The petitions requested that the EPA object to a Clean Air Act (CAA) title V operating permit issued by the Allegheny County Health Department to U.S. Steel Mon Valley Works Irvin Plant for its secondary steel processing facility located in West Mifflin, Allegheny County, Pennsylvania.

FOR FURTHER INFORMATION CONTACT: Gwendolyn Supplee, EPA Region 3, (215) 814-2763, supplee.gwendolyn@epa.gov. The final order and petition are available electronically at: https://www.epa.gov/title-v-operating-permits/title-v-petition-database.

SUPPLEMENTARY INFORMATION: The EPA received petitions from the United States Steel Corporation dated November 15, 2024, and from Environmental Integrity Project, PennFuture, and Clean Air Council dated November 15, 2024, requesting that the EPA object to the issuance of operating permit no. 0050-OP24, issued by Allegheny County Health Department to U.S. Steel Mon Valley Works Irvin Plant in West Mifflin, Allegheny County, Pennsylvania. On September 16, 2025, the EPA Administrator issued an order granting in part and denying in part the petitions. The order itself explains the basis for the EPA's decision.

Sections 307(b) and 505(b)(2) of the CAA provide that a petitioner may request judicial review of those portions of an order that deny issues in a petition. Any petition for review shall be filed in the United States Court of Appeals for the appropriate circuit no later than January 20, 2026.

Michael Dunn,
Acting Director, Air & Radiation Division, Region III.

[FR Doc. 2025-20414 Filed 11-19-25; 8:45 am]

BILLING CODE 6560-50-P